DEPARTMENT OF DEFENSE

Department of the Army; Army Corps of Engineers

Notice of Intent To Prepare a Supplemental Joint Draft Environmental Impact Statement/Environmental Impact Report for the 2007 Folsom Dam Safety/Flood Damage Reduction Environmental Impact Statement/Environmental Impact Report

AGENCY: Department of the Army, U.S. Army Corps of Engineers; DOD.

ACTION: Notice of Intent.

SUMMARY: The U.S. Army Corps of Engineers, Sacramento District (USACE) intends to prepare a Supplemental Joint Draft Environmental Impact Statement/Environmental Impact Report (EIS/EIR) for the 2007 Folsom Dam Safety/Flood Damage Reduction EIS/EIR (hereafter referred to as the Project). USACE will serve as lead National Environmental Policy Act (NEPA) agency and the Central Valley Flood Protection Board (CVFPB) will serve as lead agency for compliance with the California Environmental Quality Act (CEQA). The Project was originally authorized in the 2004 Energy and Water Development Appropriations Act (EWDAA) and was later reauthorized in the 2007 Water Resources Development Act (WRDA). The Project is authorized for 4 components: (1) Emergency spillway gate modifications, (2) raising the right and left wings of the main dam, Mormon Island Auxiliary Dam (MIAD), and the reservoir dikes (1-8) by 3.5 feet, (3) temperature control shutter automation and reconfiguration, and 4) downstream ecosystem restoration of Bushy Lake and Woodlake.

The Supplemental Draft Joint SEIS/SEIR will address two components of the authorized project, specifically the emergency spillway gate modifications and the 3.5 foot raise. These flood damage reduction components of the Project enhance the utilization of the existing surcharge flood storage space (temporary water storage space utilized during rare flood events), as well as increase the surcharge flood storage capacity of the reservoir.

DATES: Written comments regarding the scope of the environmental analysis should be received by March 9th, 2014.

ADDRESSES: Written comments and suggestions concerning this project and requests to be included on the project mailing list may be submitted to Tyler Stalker, U.S. Army Corps of Engineers, Sacramento District, Attn: Public Affairs Office (CESPK-PAO), 1325 J Street, Sacramento, CA 95814.

FOR FURTHER INFORMATION CONTACT: Tyler Stalker via telephone at (916) 557-5107, email at Tyler.M.Stalker@usace.army.mil, or mail at (see ADDRESSES). Study information will also be posted periodically on the Internet at: http://www.spk.usace.army.mil/Missions/CivilWorks/FolsomDamRaise.aspx

SUPPLEMENTARY INFORMATION: 1. Proposed Action. The Corps is preparing a Supplemental Draft EIS/EIR to analyze Project alternatives to improve flood risk management, specifically by increasing the height of the right and left wings of the main dam, MIAD, and associated dikes by 3.5 feet and refining the three emergency spillway gates to withstand probable maximum flood conditions. The Project would improve flood risk management while also addressing certain dam safety issues associated with passing the probable maximum flood.

2. Alternatives.

Emergency Spillway Gate Modifications Alternatives

• No Action: Under the No Action Alternative, the Federal government would not implement the emergency spillway gate modifications and improved flood risk management benefits would not occur.

• Replacement of Emergency Tainter Gates: Complete replacement of the existing three emergency gates with newly fabricated, taller tainter gates and associated pier modifications.

• Vertical Top Seal Bulkheads with Existing Emergency Tainter Gates: Make use of existing strengthened gates (due to Reclamation's structural improvements) and incorporate a top seal bulkhead feature that allows the emergency spillway bays to hold back a higher flood pool.

• Horizontal Top Seal Bulkheads with Existing Emergency Tainter Gates: Adds a top seal feature similar to the “Vertical Top Seal Concept,” but with a different configuration and includes removable steel bulkhead elements with the most significant segment mounted horizontally.

• Refined Emergency Gate Replacement: Complete replacement of the existing three emergency gates, with newly fabricated, larger tainter gates; the gate geometry for this concept would not require extensive pier modifications such as those required for the original replacement concept.

Dam Raise Alternatives

• No Action: Under the No Action Alternative, the Federal government would not implement the 3.5 foot raise and improved flood risk management benefits would not occur.

• Earthen Raise: Raise the dams and dikes 3.5 feet through placement of fill derived from the auxiliary spillway excavation and/or from other borrow sources.

• Concrete Floodwall: Construct a 3.5-foot high reinforced concrete floodwall that would be placed near the waterside edge of the existing embankment crests.

• Combination Earthen Raise and Concrete Floodwall: Dams and dikes would be raised 3.5 feet by either an earthen raise or a concrete floodwall, depending on location and feasibility of either option.

• Various Additional 3.5 Foot Raise Options: As the 3.5 foot dam raise is further studied, various other options may be analyzed for technical feasibility.

3. Scoping Process.

a. Two public scoping meetings will be held to present an overview of the Dam Raise and the EIS/EIR process, and to afford all interested parties with an opportunity to provide comments regarding the scope of analysis and potential alternatives. The first public scoping meeting will be held at the Folsom Community Center, 52 Natoma Street, Folsom, CA on February 19th, 2014, from 5:00—7:00 p.m. The second public scoping meeting will be held at the Sacramento Library Galleria, 828 I Street, Sacramento, CA on February 24th, 2014, from 5:00-7:00 p.m.

b. Potentially significant issues to be analyzed in depth in the Supplemental Draft EIS/EIR will include: Hydrology, water quality, air quality, special status species, fisheries and aquatic resources, terrestrial vegetation and wildlife, soils, recreation, transportation, noise, visual resources, utilities, and cultural resources. The document will also evaluate cumulative effects.

c. USACE will consult with the U.S. Fish and Wildlife Service to comply with the Endangered Species Act and the Fish and Wildlife Coordination Act. USACE will consult with the State Historic Preservation Officer to comply with the National Historic Preservation Act.

d. A 45-day public review period will be provided for individuals, interested parties, and agencies to review and comment on the Draft EIS/EIR. All interested parties are encouraged to respond to this notice and provide a current address if they wish to be notified of the Draft EIS/EIR circulation.

4. Availability. The Draft EIS/EIR is scheduled to be available for public review and comment in Spring 2015.

Dated: January 24, 2014.
Michael Farrell,
Colonel, U.S. Army, Commander and District Engineer.

[FR Doc. 2014-02530 Filed 2-5-14; 8:45 am]

BILLING CODE 3720-58-P